DEPARTMENT OF HEALTH AND HUMAN SERVICES

Announcement of Requirements and Registration for the United States Surgeon General's Healthy Apps Challenge

AGENCY: Office of the Surgeon General, Office of the Assistant Secretary for Health, Office of the Secretary, Department of Health and Human Services.

ACTION: Notice.

SUMMARY: The U.S. Surgeon General's Healthy Apps Challenge will encourage the development and submission of technology applications that will complement and enhance two key aspects of the Surgeon General's prevention agenda: The Surgeon General's Vision for a Healthy and Fit Nation (http://www.surgeongeneral.gov/library/obesityvision/obesityvision2010.pdf) and the nation's first National Prevention Strategy (http://www.healthcare.gov/prevention/nphpphc/strategy/report.pdf). Specifically, the challenge will highlight the ability of innovative new technologies to: (1) Provide health information tailored to the needs of the user; and (2) empower users (the general public) to regularly engage in and enjoy health promoting behaviors related to fitness and physical activity, nutrition and healthy eating, and/or physical, mental and emotional well-being. This challenge is being conducted in collaboration with the Office of the National Coordinator for Health IT.

DATES: Submission period begins: 12:01 a.m., EST, December 2, 2011.

Submission period for initial entries ends: 11:59 p.m., EST, December 30, 2011.

Judging process for finalists begins: 12:01 a.m., EST, January 2, 2012.

Judging process for finalists ends: 11:59 p.m., EST, January 20, 2012.

Finalist(s) notified: January 23, 2012.

Public announcement: Late January, 2012.

FOR FURTHER INFORMATION CONTACT: Dr. Lesley Russell, Senior Public Health Advisor for Outreach and Policy, Office of the Surgeon General, U.S. Department of Health and Human Services. Phone: (202) 401-8596.

SUPPLEMENTARY INFORMATION:

Subject of Challenge Competition

Entrants are asked to develop software applications (apps) in the following categories:

Fitness/physical activity: This category is focused on applications particularly aimed at recruiting and retaining those people who are not currently regularly exercising.

Nutrition/healthy eating: This category is focused on applications aimed at quickly prepared home meals, eating out sensibly, and getting healthy food when travelling (e.g. in airports) or out and about.

Integrative health: This category is focused on applications aimed at integrating multiple aspects of wellness (healthy sleep habits, boosting mental/spiritual health, lifestyle behavior change, social health, family health, community health, etc.).

Submissions can be existing applications or applications developed specifically for this challenge. A free version of the application must be available for consumer use. The applications should not require the purchase of additional products to be fully operational.

Eligibility Rules for Participating in the Competition

This Challenge is open to U.S. residents of the 50 States (plus the District of Columbia, Puerto Rico, the U.S. Virgin Islands, Guam, and American Samoa) who are 13 years and over (with a parent/guardian if under 18 years of age), and businesses and organizations domiciled in the U.S.

Individuals submitting on behalf of corporations, nonprofits, or groups of individuals (such as academic classes or other teams) must meet the eligibility requirements for individual contestants; each individual team member need not meet every criterion, but the lead member of a team must meet all criterion. An individual may join more than one team, corporation, or nonprofit organization.

Eligibility to be a contestant is contingent upon fulfilling all requirements set forth herein. Contestants may be required to disclose their employers to allow the Department of Health and Human Services (HHS) to conduct debarment and compliance screenings. HHS will not select as a finalist or challenge winner a company, or an individual who works for a company, which is currently on the Federal list of debarred entities or that has significant compliance issues.

A federal entity or federal employee acting within the scope of his or her employment is not eligible to participate. Federal employees acting outside the scope of their employment should consult their ethics official before participating in the Challenge.

Participation constitutes contestant's full and unconditional agreement to these official rules.

Prizes

This competition does not provide monetary prizes. The winners in each of the three categories will be recognized by HHS and the Office of the Surgeon General during an announcement/award ceremony in January/February 2012. Finalist applications will be featured on an HHS Web site.

Basis Upon Which Winner Will Be Selected

Entries will be judged by an expert panel selected by HHS. The judging panel will make selections based upon the following criteria:

(1) Usefulness: Each entry will be rated for its ability to empower users to engage in health promoting behaviors related to fitness and physical activity; nutrition/healthy eating; or physical and mental well-being. The apps must provide health information tailored to the needs of the user.

(2) Innovativeness: Each entry will be rated for the degree of new thinking and creativity it brings to applications focusing on the health promotion, disease prevention, and wellness in the three categories outlined.

(3) Evidenced-Based or Data-Driven Approach: Each entry will be rated on the degree to which it incorporates scientific evidence or empirical data to help assess and modify health behaviors and wellness outcomes. The entry must include a description of how research and science is incorporated into the evidence base underpinning the application.

(4) Usability: Each entry will be rated on its user-friendliness and interactive capabilities. Entries should be applicable and attractive to people who are not early adopters of new technologies and are not “high tech”. Additional consideration will be given as to whether the entry can be used by people with disabilities.

(5) Potential Impact: Each entry will be rated on the strength of its potential to help all Americans, particularly those who do not normally engage regularly in health promoting behavior, to improve their health and fitness. The ability to appeal to those in underserved and hard-to-reach communities and in Cultural and Linguistically Diverse (CALD) communities will also be assessed.

(6) Data Downloads: Submission will receive bonus points if they offer the ability to download personal data and allow the user to integrate these data into other health and health care applications, including Personal Health Records/e-Health Records. Submissions must specify the type of information available (e.g., running log, vegetable intake, sleep records) and the unit of measurement (e.g., distance or minutes per day, calories burned, calories consumed, hours of sound sleep).

(7) Fun Factor and Health “Lagniagge”: Each entry will be rated for the “fun factor” it brings to users who are engaged in health promoting behaviors and on whether it provides “lagniagge” (something extra or a bonus) in health for the user to enhance their personal health, fitness, and/or wellness goals.

Each entry must be limited to software programs that do not require additional hardware or the purchase of additional products (beyond a smart phone or a computer) for full use.

The application should be available at no cost or fees to the consumer.

Additional Information

Non-communicable diseases such as cardiovascular disease, cancer, and chronic respiratory disease account for a large majority of deaths in the U.S. The links between unhealthy behaviors (e.g., physical inactivity, unhealthy eating, tobacco use, excessive alcohol use) and these chronic illnesses have been well established. The Surgeon General's Vision for a Healthy and Fit Nation and the National Prevention Strategy both highlight the importance of health behaviors in preventing disease and creating a healthy and fit nation. The National Prevention Strategy further envisions a prevention-oriented society where all sectors recognize the value of health for individuals, families, and society and work together to achieve better health for all Americans. The National Prevention Strategy also emphasizes the importance of empowering individuals with tools and information to make healthy choices, and shifting the focus of the nation's health to prevention and integrated wellness (i.e., physical, behavioral, social, and emotional health), rather than focusing primarily on illness and disease.

National public health recommendations and guidelines currently exist for physical activity (Physical Activity Guidelines for Americans; http://www.health.gov/paguidelines/), nutrition (MyPlate; http://www.choosemyplate.gov/), and overall health and wellness (Healthy People 2020; http://www.healthypeople.gov/2020/default.aspx). Yet, currently, approximately 40 percent of American adults report that they do not engage in any leisure-time physical activity, with less than half the population meeting public health recommendations for physical activity. In 2009 fewer than 1 in 10 Americans included the recommended amounts of fruit and vegetables in their diet. Over one-third of Americans are currently obese. Research also finds that sleep health contributes to obesity and disease, but 40 percent of Americans report unintentionally falling asleep during the day at least once in the preceding month.

Communication technology has great potential to empower and connect individuals, particularly those in underserved and hard-to-reach communities, with information to make healthy choices. The Office of the Surgeon General is launching this developer's challenge to encourage the development (by innovators) and use (by everyday Americans) of consumer-facing technology to create a healthy and fit nation.

In order for an entry to win this Challenge, it must meet the following requirements:

General: Contestants must provide access to the application, a detailed description of the application, instructions on how to install and operate the application, and system requirements necessary to run the application (collectively, submission). Applications developed for mobile phones must specify the specific operating system(s) on which the app runs and provide a site where the app can be downloaded.

Acceptable platforms: The application must be designed for the Web, a personal computer, a mobile device (e.g., mobile phone, portable sensor, etc.), console, or any platform broadly accessible on the open Internet.

Accessibility: The application must, to the extent practicable, be accessible to a wide range of users, including users with disabilities. Application should also aim to eventually meet objectives for federal compliance guidelines for information technology as addressed by Section 508 of the Rehabilitation Act of 1973: http://www.section508/gov.

Deadlines: The submission must be available for evaluation by 11:59 p.m., EST, on December 30, 2011 for judging purposes.

Modifications: Once a submission is made, the contestant cannot make any changes or alterations to any part of the submission.

Intellectual Property: The submission must not infringe on any copyright or any other rights of any third party.

No HHS Logo: The application must not use HHS's logo or official seal or the logo or official seal of the Surgeon General in the submission, and must not claim federal government endorsement.

Functionality/Accuracy: A submission may be disqualified if the software application fails to function as expressed in the description provided by the contestant, or if the submission provides inaccurate information.

Security: Submissions must be free of malware. Contestant agrees that HHS may conduct testing on the application to determine whether malware or other security threats may be present. HHS may disqualify the application if, in HHS's judgment, the application may damage government or third-party equipment or operating environments.

HHS will also screen submissions for eligibility of the submitting contestant and compliance with Challenge.gov's Standards of Conduct. By submitting the entries, applicants consent to IT security testing and debarment and compliance screening.

Submissions satisfying these criteria will be deemed eligible and posted on the Challenge.gov Web site on a rolling basis. Submissions from contestants who are under the age of eighteen (18) will be deemed ineligible and will not be posted, until and unless a completed Parent/Legal Guardian Consent Form is received.

Copyright/Intellectual Property/Original Work: Each contestant warrants that he or she is the sole author and owner of the submission, that the submission is wholly original with the contestant (or is an improved version of an existing application that the contestant has sufficient rights to use including the substantial improvement of existing open-source apps), and that it does not infringe any copyright or any other rights of any third party of which contestant is aware. Each contestant also warrants that the application is free of malware.

Submission Rights: Each contestant grants to HHS an irrevocable, paid-up, royalty-free non-exclusive worldwide license to post, link to, and display publicly the application on the Web, for the purpose of the Challenge, during the duration of the Challenge and for a period of one year following announcement of the winner. All contestants will retain all other intellectual property rights over their submissions.

Verification of Finalists and Challenge Winner: Finalists and the Challenge winner must continue to comply with all terms and conditions of these official rules, and winning is contingent upon fulfilling all requirements contained herein. The finalists will be notified by email, telephone, or mail after the date of the judging. The finalists (or finalist's parent/guardian if under 18 years of age) and Challenge winner (or Challenge winner's parent/guardian if under 18 years of age), will be required to sign and return to HHS, within ten (10) days of the date notice being sent, an Affidavit of Eligibility and Liability/Publicity Release (except where prohibited) in order to claim any recognition. In the event that a potential finalist or Challenge winner is disqualified for any reason, HHS may award the applicable recognition to an alternate winner who had the highest score remaining of the eligible entries.

Privacy: If you choose to provide the HHS with personal information by registering or filling out the submission form through the Web site, that information will be used to respond to you in matters regarding your submission and/or the Challenge only—unless you choose to receive updates or notifications about other competitions from HHS on an opt-in basis. Information is not collected for commercial marketing.

Liability: The contestant shall be liable for, and shall indemnify and hold harmless the Government against, all actions or claims for loss of or damage to property (including any damage that may result from a virus or malware to HHS computer systems or those of the end-users of the software and/or applications), resulting from the fault, negligence, or wrongful act or omission of the contestant.

Disclaimer: HHS and its contractors are not responsible for: (1) Any incorrect or inaccurate information, whether caused by contestants, printing errors, or by any of the equipment or programming associated with or utilized in the Challenge; (2) technical failures of any kind, including, but not limited to malfunctions, interruptions, or disconnections in phone lines or network hardware or software; (3) unauthorized human intervention in any part of the entry process or the Challenge; (4) technical or human error which may occur in the administration of the Challenge or the processing of entries; or (5) any injury or damage to persons or property which may be caused, directly or indirectly, in whole or in part, from contestant's participation in the Challenge or receipt, use or misuse of any recognition. If for any reason a contestant's entry is confirmed to have been erroneously deleted, lost, or otherwise destroyed or corrupted, contestant's sole remedy is another entry in the Challenge. Recognition in connection with this Challenge does not constitute an endorsement of a specific product by the HHS.

General Conditions: HHS reserves the right to cancel, suspend, and/or modify the competition, or any part of it, for any reason, at HHS's sole discretion.

All decisions by HHS are final and binding in all matters related to the competition.

Dated: November 16, 2011.
Regina Benjamin,
Surgeon General, U.S. Public Health Service.

[FR Doc. 2011-30668 Filed 11-28-11; 8:45 am]

BILLING CODE 4150-28-P